POSTAL SERVICE

39 CFR Parts 3, 4, and 6

Bylaws of the Board of Governors

AGENCY: Postal Service.

ACTION: Final rule.

SUMMARY: On September 14, 2004, the Board of Governors of the United States Postal Service adopted a number of amendments to its Bylaws. These amendments changed the quorum of Governors required to vote on a recommended decision of the Postal Rate Commission, reserved the election of the Board's Vice Chairman to the Governors, and altered the rules for scheduling meetings. Consequently, the Postal Service hereby publishes this final rule.

EFFECTIVE DATE: September 29, 2004.

FOR FURTHER INFORMATION CONTACT: William T. Johnstone, Secretary of the Board, U.S. Postal Service, 475 L'Enfant Plaza, SW., Washington, DC 20260-1000; (202) 268-4800.

SUPPLEMENTARY INFORMATION: This document publishes amendments to parts 3, 4, and 6 of 39 CFR, amending the Bylaws of the Board of Governors of the United States Postal Service. The Board amended parts 3 and 4 to reserve the election of the Board's Vice Chairman to a vote of the Governors, rather than a vote of the entire Board. In part 6, the Board changed the procedure for establishing an annual schedule of meetings to conform to current practice. The Board also amended part 6 to change from 5 to 4 the number of Governors required for a quorum to vote on a recommended decision of the Postal Rate Commission.

List of Subjects in 39 CFR Parts 3, 4, 6

Administrative practice and procedure, Organization and functions (Government agencies), Postal Service.

Accordingly, parts 3, 4, and 6 of 39 CFR are amended as follows:

PART 3—[AMENDED]

1. The authority citation for part 3 continues to read as follows:

Authority: 39 U.S.C. 202, 203, 205, 401(2), (10), 402, 414, 416, 1003, 2802-2804, 3013; 5 U.S.C. 552b(g), (j); Inspector General Act, 5 U.S.C. app.; Pub. L. 107-67, 115 Stat. 514 (2001).

§ 3.3 [Amended]

2. Amend § 3.3 by removing and reserving paragraph (a).

2.a. Amend § 3.4 by revising paragraph (c) to read as follows:

§ 3.4 Matters reserved for decision by the Governors.

* * * * *

(c) Election of the Chairman and Vice Chairman of the Board of Governors, 39 U.S.C. 202(a).

* * * * *

PART 4—[AMENDED]

3. The authority citation for part 4 continues to read as follows:

Authority: 39 U.S.C. 202-205, 401(2), (10), 402, 1003, 3013.

§ 4.2 [Amended]

4. Amend § 4.2 by removing the words “The Vice Chairman is elected by the Board” and adding the words “The Vice Chairman is elected by the Governors” in their place.

PART 6—[AMENDED]

5. The authority citation for part 6 continues to read as follows:

Authority: 39 U.S.C. 202, 205, 401(2), (10), 1003, 3013; 5 U.S.C. 552b(e), (g).

§ 6.1 [Amended]

6 Amend § 6.1 by revising the first sentence to read as follows:

§ 6.1 Regular meetings, annual meeting.

The Board shall meet regularly on a schedule established annually by the Board. * * *

§ 6.6 [Amended]

7. Amend § 6.6(f) by removing the numeral “5” and adding the numeral “4” in its place.

Stanley F. Mires,
Chief Counsel, Legislative.

[FR Doc. 04-21557 Filed 9-28-04; 8:45 am]

BILLING CODE 7710-12-P